DEPARTMENT OF HEALTH AND HUMAN SERVICES

Office of the Secretary

Meeting of the National Human Research Protections Advisory Committee (NHRPAC)

AGENCY: Office of Public Health and Science, Office for Human Research Protections.

ACTION: Notice of July 30-31, 2002 meeting.

SUMMARY: Pursuant to section 10(d) of the Federal Advisory Committee Act, as amended (5 U.S.C. Appendix 2), notice is hereby given of a meeting of the National Human Research Protections Advisory Committee (NHRPAC).

The meeting will be open to the public, with attendance limited to space available. Individuals who plan to attend and need special assistance, such as sign language interpretation or other reasonable accommodations, should notify the contact person listed below. Individuals planning on attending the meeting and who want to ask questions must submit their requests in writing in advance of the meeting to the contact person listed below.

DATES: The Committee will hold its next meeting on July 30-31, 2002. The meeting will convene EST from 8:30 a.m. to its recess at approximately 5:30 p.m. on July 30 and resume at 8:30 a.m. to 5:00 p.m. on July 31.

ADDRESSES: Four Points Sheraton, 1201 K Street, N.W., Washington, D.C. 20005 (202) 289-7600.

FOR FURTHER INFORMATION CONTACT: Keisha Johnson, Program Assistant, National Human Research Protections Advisory Committee, Office for Human Research Protections, The Tower Building, 1101 Wootton Parkway, Suite 200, Rockville, Maryland 20852, (301) 435-4917. The electronic mail address is: kjohnson@osophs.dhhs.gov.

SUPPLEMENTARY INFORMATION: The National Human Research Protections Advisory Committee was established on June 6, 2000, to provide expert advice and recommendations to the Secretary of HHS, Assistant Secretary for Health, the Director, Office for Human Research Protections, and other departmental officials on a broad range of issues and topics pertaining to or associated with the protection of human research subjects.

Information about NHRPAC, and the draft agenda for the Committee's July 2002 meeting, will be posted on the NHRPAC website at: http://ohrp.osophs.dhhs.gov/nhrpac/nhrpac.htm.

Dated: June 5, 2002.
Greg Koski,
Executive Secretary, National Human Research Protections Advisory Committee.

[FR Doc. 02-14948 Filed 6-12-02; 8:45 am]

BILLING CODE 4150-28-P